DEPARTMENT OF ENERGY

Federal Energy Regulatory Commission

Combined Notice of Filings #1

June 28, 2005.

Take notice that the Commission received the following electric rate filings:

Docket Numbers: ER02-2605-003.

Applicants: Keystone Energy Group, Inc.

Description: Keystone Energy Group, Inc. submits its triennial updated market analysis in compliance with the Commission's letter order issued 12/31/02 Order in Docket Nos. ER02-2605-000 and 001.

Filed Date: 06/23/2005.

Accession Number: 20050627-0013.

Comment Date: 5 p.m. eastern time on Thursday, July 14, 2005.

Docket Numbers: ER04-691-053; EL04-104-050.

Applicants: Midwest Independent Transmission System Operator, Inc.

Description: Midwest Independent Transmission System Operator, Inc., in compliance with the Commission's 6/1/05 letter order, 111 FERC ¶ 61,335, submits proposed revisions to its Open Access Transmission and Energy Markets Tariff, FERC Electric Tariff, Third Revised Volume 1.

Filed Date: 06/24/2005.

Accession Number: 20050627-0012.

Comment Date: 5 p.m. eastern time on Friday, July 15, 2005.

Docket Numbers: ER04-691-054; EL04-104-051.

Applicants: Midwest Independent Transmission System Operator, Inc.

Description: Midwest Independent Transmission System Operator, Inc., in compliance with the Commission's 5/26/05 order, 111 FERC ¶ 61,249, submits proposed revisions to its Open Access Transmission and Energy Markets Tariff, FERC Electric Tariff, Third Revised Volume 1.

Filed Date: 06/24/2005.

Accession Number: 20050627-0011.

Comment Date: 5 p.m. eastern time on Friday, July 15, 2005.

Docket Numbers: ER05-1138-000.

Applicants: Midwest Independent Transmission System Operator, Inc.

Description: Midwest Independent Transmission System Operator, Inc. submits proposed revisions to Attachment L of its Open Access Transmission and Energy Markets Tariff, FERC Electric Tariff, Third Revised Volume 1.

Filed Date: 06/23/2005.

Accession Number: 20050627-0018.

Comment Date: 5 p.m. eastern time on Thursday, July 14, 2005.

Docket Numbers: ER05-727-001.

Applicants: New York Independent System Operator, Inc.

Description: New York Independent System Operator, Inc., pursuant to the Commission's 5/24/05 order (111 FERC ¶ 61,238 (2005)), submits revisions to its Open Access Transmission Tariff and its Market Administration Control Area Services Tariff.

Filed Date: 06/23/2005.

Accession Number: 20050627-0015.

Comment Date: 5 p.m. eastern time on Thursday, July 14, 2005.

Docket Numbers: ER99-1757-010.

Applicants: The Empire District Electric Company.

Description: The Empire District Electric Company submits an amendment to its 3/31/05 & 5/2/05 compliance filings.

Filed Date: 06/23/2005.

Accession Number: 20050627-0014.

Comment Date: 5 p.m. eastern time on Thursday, July 7, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on other persons and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Linda Mitry,
Deputy Secretary.

3

[FR Doc. E5-3541 Filed 7-5-05; 8:45 am]

BILLING CODE 6717-01-P